GENERAL ACCOUNTING OFFICE

[Document No. JFMIP-SR-01-03]

Joint Financial Management Improvement Program (JFMIP)—Federal Financial Management System Requirements (FFMSR)

AGENCY: Joint Financial Management Improvement Program (JFMIP).

ACTION: Notice of document availability.

SUMMARY: The JFMIP is seeking public comment on an exposure draft entitled “Acquisition/Financial Systems Interface Requirements,” dated November 2001. The draft is the first Federal Financial Management System Requirements (FFMSR) document to address standard financial requirements for Federal acquisition/financial systems. The document is intended to assist agencies when developing, improving or evaluating benefit systems. It provides the baseline functionality that agency systems must have to support agency missions and comply with laws and regulations. When issued in final, the document will augment the existing body of FFMSR that define financial system functional requirements which are used in evaluating compliance with the Federal Financial Management Improvement Act (FFMIA) of 1996.

DATES: Comments are due by February 28, 2002.

ADDRESSES: Copies of the exposure draft have been mailed to senior financial officials, chief information officers, and procurement executives, together with a transmittal memo listing items of interest for which JFMIP is soliciting feedback. The Exposure Draft, transmittal memo, and comment response matrix are available on the JFMIP Web site: www.jfmip.gov Responses should be addressed to JFMIP, 1990 K Street, NW., Suite 430, Washington, DC 20006.

FOR FURTHER INFORMATION: Dennis Mitchell, (202) 219-0529 or dennis.mitchell@gsa.gov.

SUPPLEMENTARY INFORMATION: The FFMIA of 1996 mandated that agencies implement and maintain systems that comply substantially with FFMSR, applicable Federal accounting standards, and the U.S. Government Standard General Ledger at the transaction level. The FFMIA statute codified the JFMIP financial system requirements documents as a key benchmark that agency systems must meet to substantially comply with systems requirements provisions under FFMIA. To support the provisions outlined in the FFMIA, the JFMIP is updating obsolete requirements documents and publishing additional requirements documents. Comments received will be reviewed and the exposure draft will be revised as necessary. Publication of the financial document will be mailed to agency financial officials, procurement executives, chief information officers, and others, and will be available on the JFMIP website. An open house is scheduled for Thursday, December 13, 2001, from 9:30 a.m. to noon in the General Services Administration (GSA) Auditorium in the main GSA Building, located at 18th and F Streets NW, to provide additional information on the Exposure Draft. The name, organization, telephone number, and e-mail address for attendees should be e-mailed to dennis.Mitchell@gsa.gov or faxed to 202-219-0549.

Karen Cleary Alderman,
Executive Director, Joint Financial Management Improvement Program.

[FR Doc. 01-30308 Filed 12-6-01; 8:45 am]

BILLING CODE 1610-02-M